DEPARTMENT OF HEALTH AND HUMAN SERVICES

Substance Abuse and Mental Health Services Administration

Office for Women's Services; Notice of a Meeting

Pursuant to Public Law 92-463, notice is hereby given of a SAMHSA Advisory Committee for Women's Services meeting to be held in September 2005.

The meeting will be open and include discussions around the activities of SAMHSA's Matrix and women involving women and trauma/violence, and developing short reports as they relate to mental health and substance abuse. Also, there will be updates on SAMHSA's reauthorization and legislation to reauthorize the Violence Against Women Act, as well as, a discussion on SAMHSA's National Registry of Evidenced-based Programs and Practices.

Attendance by the public will be limited to space available. Public comments are welcome. Please communicate with the individual listed as contact below to make arrangements to comment or to request special accommodations for persons with disabilities.

Substantive program information and a roster of Committee members may be obtained by accessing the SAMHSA Advisory Councils' Web site (http://www.samhsa.gov) as soon as possible after the meeting or by communicating with the contact whose name and telephone number are listed below. The transcript for the session will also be available on the SAMHSA Advisory Councils' website as soon as possible after the meeting.

Committee Name: Substance Abuse and Mental Health Services Administration Advisory Committee for Women's Services.

Meeting Dates: Monday, September 26, 2005 9 a.m.-5 p.m. Tuesday, September 27, 2005 9 a.m.-12 Noon.

Place: 1 Choke Cherry Road, Sugarloaf Conference Room, Rockville, MD 20857.

Contact: Carol Watkins, Executive Secretary, 1 Choke Cherry Road, Room 8-1002, Rockville, MD 20857, Telephone: (240) 276-2254, Fax: (240) 276-2252, E-mail: carol.watkin2@samhsa.hhs.gov.

Dated: September 12, 2005.
Toian Vaughn,
Committee Management Officer, Substance Abuse and Mental Health Services Administration.

[FR Doc. 05-18531 Filed 9-16-05; 8:45 am]

BILLING CODE 4162-20-P